DEPARTMENT OF HOMELAND SECURITY

Coast Guard

[Docket No. USCG-2008-0109]

Merchant Marine Personnel Advisory Committee; Meetings

AGENCY: Coast Guard, DHS.

ACTION: Notice of meetings.

SUMMARY: The Merchant Marine Personnel Advisory Committee (MERPAC) will meet in Dania Beach, FL, to discuss various issues relating to the training and fitness of merchant marine personnel. These meetings will be open to the public.

DATES: A working group of MERPAC will meet on Tuesday, April 8th, 2008 from 8 a.m. until 4 p.m. The full MERPAC Committee will meet on Wednesday, April 9th and Thursday, April 10th, 2008 from 8 a.m. until 4 p.m. These meetings may close early if all business is finished. Written material and requests to make oral presentations should reach the Coast Guard on or before March 26, 2008. Requests to have a copy of your material distributed to each member of the committee or subcommittee should reach the Coast Guard on or before March 26, 2008.

ADDRESSES: The working group will meet in Room 217 of the RTM STAR Center, 2 West Dixie Highway, Dania Beach, FL. The full Committee will likewise meet in Room 217 of the RTM STAR Center. Send written material and requests to make oral presentations to Captain Michael Blair, Executive Director of MERPAC, Commandant (CG-5221, U.S. Coast Guard, 2100 Second St., SW., Washington, DC 20593-0001). This notice is available in our online docket, USCG-2008-0109, at http://www.regulations.gov.

FOR FURTHER INFORMATION CONTACT: Mr. Mark Gould, Assistant to the Executive Director of MERPAC; at 202-372-1409.

SUPPLEMENTARY INFORMATION: Notice of this meeting is given under the Federal Advisory Committee Act, 5 U.S.C. App. (Pub. L. 92-463).

Agenda of Meeting

The agenda for the April 8th, 2008, work group meeting of MERPAC is as follows:

(1) Discuss Task Statement 68, concerning a review of the draft Navigation and Vessel Inspection Circular entitled, “Medical and Physical Evaluation Guidelines for Merchant Mariner Credentials”; and

(2) Discuss Task Statement 69, concerning revisions to forms CG-719K, Merchant Mariner Physical Examination Report, and CG-719K/E, Merchant Marine Certification of Fitness.

The agenda for the April 9th, 2008 meeting of MERPAC is as follows:

(1) The full committee will meet to discuss the objectives for the meeting. Working groups addressing the following task statements may meet to deliberate: Task Statement 30, concerning “Utilizing Military Sea Service for STCW Certifications”; Task Statement 55, concerning “Recommendations to Develop a Voluntary Training Program For Deck and Engine Department Entry Level Mariners on Domestic and Seagoing Vessels”; Task Statement 58, concerning “Stakeholder Communications During MLD Program Restructuring and Centralization”; Task Statement 61, concerning “Merchant Mariner Medical Waiver Evaluation Guidelines”; Task Statement 68, concerning “Medical and Physical Evaluation Guidelines for Merchant Mariner Credentials”; and Task Statement 69, concerning “Revisions to forms CG-719K, Merchant Mariner Physical Examination Report, and CG-719K/E, Merchant Marine Certification of Fitness.”

New working groups may be formed to address issues proposed by the Coast Guard, MERPAC members, or the public. At the end of the day, the working groups will make a report to the full committee on what has been accomplished in their meetings. No action will be taken on these reports on this date.

The agenda for the April 10th, 2008 meeting of MERPAC is as follows:

(1) Introduction;

(2) Working Groups' Reports; and

(3) Other items which may be discussed:

(a) Standing Committee-Prevention Through People.

(b) Briefings concerning on-going projects of interest to MERPAC.

(c) Other items brought up for discussion by the Committee or the public.

Procedural

All meetings are open to the public. Please note that the meetings may close early if all business is finished. At the Chair's discretion, members of the public may make oral presentations during the meetings. If you would like to make an oral presentation at a meeting, please notify the Executive Director no later than March 26, 2008. Written material for distribution at a meeting should reach the Coast Guard no later than March 26, 2008. If you would like a copy of your material distributed to each member of the committee or subcommittee in advance of a meeting, please submit 25 copies to the Executive Director no later than March 26, 2008.

Information on Services for Individuals with Disabilities

For information on facilities or services for individuals with disabilities or to request special assistance at the meetings, contact the Executive Director as soon as possible.

Dated: February 25, 2008.
H.L. Hime,
Acting Director of Commercial Regulations and Standards.

[FR Doc. E8-4196 Filed 3-4-08; 8:45 am]

BILLING CODE 4910-15-P